DEPARTMENT OF HOMELAND SECURITY

Federal Emergency Management Agency

[Docket ID FEMA-2020-0033; OMB No. 1660-0026]

Agency Information Collection Activities: Submission for OMB Review; Comment Request; State Administrative Plan for the Hazard Mitigation Program

AGENCY: Federal Emergency Management Agency, DHS.

ACTION: 30-Day notice and request for comments.

SUMMARY: The Federal Emergency Management Agency (FEMA), as part of its continuing effort to reduce paperwork and respondent burden, invites the general public to take this opportunity to comment on a reinstatement, without change, of a previously approved information collection for which approval has expired. FEMA will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before March 12, 2021.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Requests for additional information or copies of the information collection should be made to Director, Information Management Division, 500 C Street SW, Washington, DC 20472, email address FEMA-Information-Collections-Management@fema.dhs.gov or Roselyn Brown-Frei, Section Chief, Hazard Mitigation Division, Federal Insurance and Mitigation Administration, FEMA, Roselyn.brown-frei@fema.dhs.gov, 202-924-7198.

SUPPLEMENTARY INFORMATION: This proposed information collection previously published in the Federal Register on November 9, 2020, at 85 FR 71351 with a 60 day public comment period. FEMA received two comments (see https://beta.regulations.gov/comment/FEMA-2020-0033-0002). One comment was unrelated to the information collection or hazard mitigation. The second comment related to hazard mitigation generally but was not specific to this information collection. The commenter urged that States should address potentially disastrous and readily recognizable conditions in a plan and have the condition corrected before a disaster occurs. The commenter also urged that States do so before underwriting any disaster relief plan. The commenter concluded that any State applying for relief should, at a minimum, submit a plan, which should also be subject to review of basic stewardship verification principals outside the written plan documents.

In response, FEMA reiterates that FEMA regulations in 44 CFR 206.437 require development and updates to the State Administrative Plan by State Applicants/Recipients as a condition of receiving HMGP funding under section 404 of the Robert T. Stafford Disaster Relief and Emergency Assistance Act, 42 U.S.C. 5170c. The State Administrative Plan is a procedural guide that details how the State administers the HMGP. The State, Territory, or Indian Tribal government (who acts as a recipient) must have a current administrative plan approved by the appropriate FEMA Regional Administrator before receiving HMGP funds. The administrative plan may take any form including a chapter within a comprehensive State mitigation program strategy. Additionally, States, Territories, and Indian Tribal governments are required to have an approved hazard mitigation plan as outlined in 44 CFR part 201. This hazard mitigation planning process identifies risks and vulnerabilities associated with natural disasters and establishes a long-term strategy for protecting people and property in future hazard events.

This information collection expired on January 31, 2021. FEMA is requesting a reinstatement, without change, of a previously approved information collection for which approval has expired. The purpose of this notice is to notify the public that FEMA will submit the information collection abstracted below to the Office of Management and Budget for review and clearance.

Collection of Information

Title: State Administrative Plan for the Hazard Mitigation Grant Program.

Type of information collection: Reinstatement, without change, of a previously approved information collection for which approval has expired.

OMB Number: 1660-0026.

Form Titles and Numbers: None.

Abstract: The State Administrative Plan is a procedural guide that details how the State administers the HMGP. The State, Territory, or Indian Tribal government (who acts as a recipient) must have a current administrative plan approved by the appropriate FEMA Regional Administrator before receiving HMGP funds. The administrative plan may take any form including a chapter within a comprehensive State mitigation program strategy.

Affected Public: States, Territories, and Tribal governments.

Estimated Number of Respondents: 35.

Estimated Number of Responses: 70.

Estimated Total Annual Burden Hours: 560.

Estimated Total Annual Respondent Cost: $32,704.

Estimated Respondents' Operation and Maintenance Costs: None.

Estimated Respondents' Capital and Start-Up Costs: None.

Estimated Total Annual Cost to the Federal Government: $23,930.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Millicent L. Brown,
Sr. Manager, Records Management Branch, Office of the Chief Administrative Officer, Mission Support, Federal Emergency Management Agency, Department of Homeland Security.

[FR Doc. 2021-02752 Filed 2-9-21; 8:45 am]

BILLING CODE 9111-BW-P